DEPARTMENT OF TRANSPORTATION

Pipeline and Hazardous Materials Safety Administration

[Docket No. PHMSA-2013-0181]

Pipeline Safety: Request for Special Permit; Fairbanks Natural Gas, L.L.C.

AGENCY: Pipeline and Hazardous Materials Safety Administration (PHMSA); DOT.

ACTION: Notice.

SUMMARY: PHMSA is publishing this notice to solicit public comments on a request from Fairbanks Natural Gas, L.L.C. (FNG) to renew a previously issued special permit. The special permit renewal request is seeking continued relief from compliance with certain requirements in the Federal pipeline safety regulations. At the conclusion of the 30-day comment period, PHMSA will review the comments received from this notice as part of its evaluation to grant or deny the special permit renewal.

DATES: Submit any comments regarding this special permit request by July 27, 2020.

ADDRESSES: Comments should reference the docket number for this special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two (2) copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 Code of Federal Regulations (CFR) 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Kay McIver, DOT, PHMSA PHP-80, 1200 New Jersey Avenue SE, Washington, DC 20590-0001. Any commentary PHMSA receives that is not specifically designated as CBI will be placed in the public docket for this matter.

FOR FURTHER INFORMATION CONTACT:

General: Ms. Kay McIver by telephone at 202-366-0113, or by email at kay.mciver@dot.gov.

Technical: Mr. Thach Nguyen by telephone at 909-262-4464, or by email at thach.d.nguyen@dot.gov.

SUPPLEMENTARY INFORMATION: PHMSA received a special permit renewal request from FNG to renew the special permit and to continue the exemption from 49 CFR 193.2155(b): Structural requirements. Although the present special permit term ended on May 13, 2019, in accordance with 49 CFR 190.341(e), the special permit will not expire until final administrative action on the application for renewal has been taken. The original special permit was granted to FNG by PHMSA on May 13, 2014. FNG's special permit renewal request, submitted on November 5, 2018, seeks to waive compliance from the requirements in 49 CFR 193.2155(b) that an LNG storage tank must not be located within one (1) mile from the ends, or ¼ mile from the nearest point of an airport runway, whichever is longer.

FNG installed one (1) 125,000-barrel (5,250,000 gallons) LNG storage tank at its existing storage and vaporization site (FNG LNG Plant) located in Fairbanks, Alaska and includes all ancillary facilities required to operate the LNG storage tank. The special permit renewal request includes a design change of the LNG storage tank at the FNG LNG Plant from a single containment LNG storage tank to a full-containment LNG storage tank. The secondary containment for the full-containment LNG storage tank consists of a concrete outer wall around the primary liquid container, whereas the design for the single containment LNG storage tank had an outer dike around the LNG storage tank as secondary containment. The 125,000-barrel full-containment storage tank was also relocated from the original location of the single containment tank to better fit the property for setbacks and other design parameters. However, the LNG storage tank location is 0.8 miles from the Metro Field airport in Fairbanks, Alaska.

The special permit renewal request, proposed special permit with modified conditions, and Final Environmental Assessment (FEA) for the FNG LNG storage tank are available for review and public comment in the Docket No. PHMSA-2013-0181. We invite interested persons to review and submit comments on the special permit renewal request, special permit with modified conditions, and FEA in the docket. Please include any comments on potential safety and environmental impacts that may result if the special permit is renewed. Comments may include relevant data.

Before issuing a decision on the special permit renewal request, PHMSA will evaluate all comments received on or before the comment closing date. Comments received after the closing date will be evaluated, if it is possible to do so without incurring additional expense or delay.

PHMSA will consider each relevant comment it receives in making a decision to grant or deny this special permit renewal request.

Alan K. Mayberry,
Associate Administrator for Pipeline Safety.

[FR Doc. 2020-13731 Filed 6-24-20; 8:45 am]

BILLING CODE 4910-60-P